DEPARTMENT OF THE INTERIOR

Bureau of Land Management,

Fish and Wildlife Service

National Park Service

[NPS-WASO-VRP-09328; PXXVPADO515]

DEPARTMENT OF AGRICULTURE

Forest Service

Proposed Fee Schedule for Commercial Filming and Still Photography Permits

AGENCY: Office of the Secretary, Bureau of Land Management, U.S. Fish and Wildlife Service, National Park Service, Interior; Forest Service, Agriculture.

ACTION: Notice of availability; request for public comment.

SUMMARY: The Department of the Interior and the Department of Agriculture propose to adopt a fee schedule for commercial filming and still photography conducted on public lands under their jurisdiction. The proposed fee schedule would establish land-use fees for commercial filming and still photography that are consistent for the National Park Service, the U.S. Fish and Wildlife Service, the Bureau of Land Management and U.S. Forest Service. The fees would be based on sound business management principles and would provide a fair return to the United States, as required in the law.

DATES: Written comments will be accepted until September 23, 2013.

ADDRESSES: You may submit comments by any of the following methods:

• Email: location_fee_notice_2013@nps.gov; put “Commercial Filming Fee Schedule” in the subject line.

• Mail: Lee Dickinson, Special Park Uses Program Manager, National Park Service, 1849 C Street NW., ORG CODE 2460, Washington, DC 20240.

FOR FURTHER INFORMATION CONTACT: Lee Dickinson, National Park Service at 202-513-7092 or by email at lee_dickinson@nps.gov. Individuals who use telecommunication devices for the deaf may call the Federal Information Relay Service (FIRS) at 1-800-877-8339 to contact the above named individual during normal business hours. The FIRS is available 24 hours a day, 7 days a week. You will receive a reply during normal business hours.

SUPPLEMENTARY INFORMATION: Public Law 106-206 (16 U.S.C. 460l-6d) directs the Secretaries of the Interior and Agriculture to establish a reasonable land-use fee for commercial filming and still photography conducted on lands under their jurisdiction. The law also directs the agencies to recover all costs incurred in connection with commercial filming activity. The Department of the Interior (DOI) is publishing in today's Federal Register regulations that implement these requirements of the law. The fee schedule that we are proposing in this notice would establish the amounts of the fees charged by DOI agencies under 43 CFR 5.8(a) and would provide a fair return to the United States for the use of federal lands. The fee does not recover administrative costs, which are collected separately.

Public Law 106-206 states that fees must be based on several criteria, including:

1. The number of days the commercial filming or still photography takes place on federal land.

2. The size of the film crew present on federal land.

3. The amount and type of equipment present on federal land.

As used in this notice, the term commercial filming means the film, electronic, magnetic, digital or other recording of a moving image by a person, business, or other entity for a market audience with the intent of generating income. Examples include, but are not limited to feature film, video, television broadcast, documentary, or similar projects. Commercial filming may include the advertisement of a product or service and/or the use of actors, models, sets, or props.

Still photography conducted on lands managed by the Department of the Interior (DOI) or the Forest Service (USFS) requires a permit when it involves models or props that are not a part of the site's natural or cultural resources or administrative facilities, or when it takes place at a location where members of the public generally are not allowed, or where additional administrative costs are likely. The land-use fee for still photography would apply only to still photography that requires a permit.

Background

On December 14, 2000, the National Park Service (NPS) published a notice in the Federal Register (65 FR 78186) requesting public comments on a proposed land-use fee schedule for commercial filming and still photography for all units of the National Park System. The NPS received 34 comments from the public on the proposed fee schedule.

In general, respondents stated that charging a fee for each person was confusing and that the proposed fees were too high. There were additional comments on the proposed implementation of the schedule. Respondents proposed charging less for still photography than for commercial filming and proposed charging only one fee per day, regardless of how many different sites were used, rather than a fee per day per location, as proposed by the NPS.

Shortly after the public comment period closed, DOI decided to develop a regulation establishing a single land-use fee schedule for commercial filming and still photography for all DOI agencies. DOI created a task force to develop the fee schedule that included personnel from the Bureau of Land Management, the U.S. Fish and Wildlife Service, and the NPS. Representatives from DOI's Office of the Solicitor and the Forest Service also served on the task force. To enhance consistency in management of federal lands, DOI and the Forest Service both anticipated that the Forest Service would adopt the same land-use fee schedule for commercial filming and still photography.

The task force used the proposed NPS land-use fee schedule as a starting point for the Departmental fee schedule for commercial filming and still photography and considered the comments received on the NPS proposed fee schedule. Task force members requested information from state, local, and tribal land management agencies and privately owned cultural institutions about land-use fees they charge for commercial filming and still photography. A task force member attended the Association of Film Commissioners International Location “Expo” to discuss with state and location film commissioners the land use fees they charge for commercial filming and still photography. A task force member also spoke with representatives of the film and photography industry about their experience with land use fees.

The task force developed separate land-use fee schedules for commercial filming and still photography permits. The task force modified the NPS proposed land-use fee schedule to establish different fee categories for each schedule based on the number of people engaging in commercial filming or still photography at a specific site and, in the case of the category for 1 to 2 people, the amount and type of equipment used.

A DOI economist conducted cost-benefit and Unfunded Mandates Act analyses and a Regulatory Flexibility Act analysis of the NPS proposed fee schedule that the task force used in creating the proposed fee schedules. These analyses are available on-lineat http://www.nps.gov/applications/digest/NPS_Filming_Fees_BCA_FINAL.pdf or by contacting Lee Dickinson, NPS Special Park Uses Program Manager, at lee_dickinson@nps.gov or 202-513-7092.

Proposed Fee Schedules

Commercial filming land-use fee schedule

Number of people | Fee
1-3, camera and tripod only | $10/day or $250/month
1-5, more than a camera and tripod | 75/day
6-10 | 150/day
11-30 | 350/day
31-50 | 650/day
51-70 | 1,000/day
over 70 | 1,500/day

Still photography land-use fee schedule

Number of people | Fee
1-3, camera and tripod only | $10/day or $250/month
1-5, more than a camera and tripod | 50/day
6-10 | 100/day
11-20 | 200/day
21-30 | 300/day
over 30 | 450/day

The land-use fee schedule would be adjusted annually using the July 12-month, unadjusted Consumer Price Index-Urban (CPI-U), which measures the average change over time in the prices paid by urban consumers for the 12-month period ending July 31 each year. Changes to the fee schedule would be rounded to the nearest dollar.

No annual adjustment to the fee schedule would exceed five percent. When the annual change to the CPI-U results in an annual adjustment of more than five percent, we would add the portion of the adjustment exceeding five percent to the following year's schedule.

Each year we would publish the revised land-use fee schedule in the Federal Register by October 1, and the adjustments would become effective the following January 1.

Jonathan B. Jarvis,
Director, National Park Service.
David Cottingham,
Acting Director, U.S. Fish and Wildlife Service.
Mike Pool,
Acting Director, Bureau of Land Management.
Thomas L. Tidwell,
Chief, U.S. Forest Service.

[FR Doc. 2013-20440 Filed 8-21-13; 8:45 am]

BILLING CODE 4312-EJ-P